DEPARTMENT OF COMMERCE

International Trade Administration

President's Advisory Council on Doing Business in Africa

AGENCY: U.S. Department of Commerce, International Trade Administration.

ACTION: Notice of an open meeting of the President's Advisory Council on Doing Business in Africa (PAC-DBIA or Council).

SUMMARY: The President's Advisory Council on Doing Business in Africa will hold the final meeting of its term to deliberate and consider adopting a report containing recommendations to the President on actions the United States Government could take to mitigate obstacles that U.S. companies face in doing business in Africa, as well as findings from the Council's June 24-July 5, 2018 Fact-Finding Trip to Ethiopia, Kenya, Côte d'Ivoire and Ghana, countries the Council identified as holding particular promise of business opportunities for U.S. companies, that was led by Commerce Secretary Wilbur Ross and Under Secretary for International Trade Gil Kaplan. The recommendations in the Council's report may include updates to recommendations the Council previously adopted on April 18, 2018 for Ethiopia, Kenya, Côte d'Ivoire and Ghana, new recommendations that focus on those or other African countries, and recommendations that apply to the African region broadly.

The Secretary of Commerce extended the appointments of the members of the PAC-DBIA by 60 days, to expire on November 5, 2018, to allow the Council sufficient time to complete its final report following the Fact-Finding Trip.

The final agenda for the meeting will be posted at least one week in advance of the meeting on the Council's website at http://trade.gov/pac-dbia.

DATES: September 26, 2018, 9:30 a.m.-11:30 a.m.

ADDRESSES: The President's Advisory Council on Doing Business in Africa meeting will be broadcast via live webcast on the internet at http://whitehouse.gov/live.

FOR FURTHER INFORMATION CONTACT: Giancarlo Cavallo or Ashley Bubna, Designated Federal Officers, President's Advisory Council on Doing Business in Africa, Department of Commerce, 1401 Constitution Ave. NW, Room 22004, Washington, DC, 20230, telephone: 202-482-2091, email: dbia@trade.gov, Giancarlo.Cavallo@trade.gov, Ashley.Bubna@trade.gov.

SUPPLEMENTARY INFORMATION:

Background: The Council was established on November 4, 2014, to advise the President, through the Secretary of Commerce, on strengthening commercial engagement between the United States and Africa. The Council's charter was renewed for a second, two-year term in September 2017. The Council was established in accordance with the provisions of the Federal Advisory Committee Act, as amended, 5 U.S.C. App.

Public Submissions: The public is invited to submit written statements to the Council. Statements must be received by 5:00 p.m. September 19, 2018 by either of the following methods:

a. Electronic Submissions

Submit statements electronically to Giancarlo Cavallo and Ashley Bubna, Designated Federal Officers, President's Advisory Council on Doing Business in Africa, via email: dbia@trade.gov.

b. Paper Submissions

Send paper statements to Giancarlo Cavallo and Ashley Bubna, Designated Federal Officers, President's Advisory Council on Doing Business in Africa, Department of Commerce, 1401 Constitution Ave. NW, Room 22004, Washington, DC, 20230.

Statements will be provided to the members in advance of the meeting for consideration and also will be posted on the Council website (http://trade.gov/pac-dbia). Any business proprietary information should be clearly designated as such. All statements received, including attachments and other supporting materials, are part of the public record and subject to public disclosure.

Meeting minutes: Copies of the Council's meeting minutes will be available within ninety (90) days of the meeting on the Council's website at http://trade.gov/pac-dbia.

Dated: August 30, 2018.
Fred Stewart,
Director, Office of Africa.

[FR Doc. 2018-19346 Filed 9-5-18; 8:45 am]

BILLING CODE 3510-DR-P